Executive Order 13403 of May 12, 2006

Amendments to Executive Orders 11030, 13279, 13339, 13381, and 13389, and Revocation of Executive Order 13011

By the authority vested in me as President by the Constitution and the laws of the United States of America, it is hereby ordered as follows:

Section 1. Executive Order 11030 of June 19, 1962, as amended, is further amended;

(a) in subsection 1(f):

(i) by striking “typewritten” and inserting “prepared”

(ii) by striking “8 x 13” and inserting “8.5 x 14” and

(iii) by striking “1 1/2” and inserting “1”

(b) in subsection 2(a), by striking “, with seven copies thereof,”

(c) by striking subsections 2(c) and 2 (d) and relettering subsection “2(e)” as “2(c)”;

(d) in section 5, by striking “Section 12 of the Federal Register Act” and inserting in lieu thereof “section 1511 of title 44, United States Code” and

(e) in section 6, by striking “Section 5(a) of the Federal Register Act” and inserting in lieu thereof “subsection 1505(a) of title 44, United States Code”.

Sec. 2. Section 1(e) of Executive Order 13279 of December 12, 2002, is amended to read as follows: “(e) 'Specified agency heads' mean the Attorney General, the Secretaries of Agriculture, Commerce, Education, Health and Human Services, Homeland Security, Housing and Urban Development, Labor, and Veterans Affairs, the Administrators of the Agency for International Development and the Small Business Administration, and the head of any other department or agency in the executive branch in which the President creates a Center for Faith-Based and Community Initiatives.”

Sec. 3. Section 9 of Executive Order 13339 of May 13, 2004, is amended by deleting “2 years from the date of this order, unless renewed by the President” and inserting in lieu thereof “May 13, 2007, unless extended beyond that date by the President”.

Sec. 4. Section 6(b) of Executive Order 13381 of June 27, 2005, is amended by striking “Unless extended by the President, this order shall expire” and inserting in lieu thereof “The provisions of this order (other than subsection 5(b) and the amendment made thereby) shall, unless extended by the President, expire”.

Sec. 5. Section 3 of Executive Order 13389 of November 1, 2005, is amended:

(a) by inserting “and” after the semicolon at the end of subsection (a);

(b) by striking “; and” at the end of subsection 3(b) and inserting a period in lieu thereof; and

(c) by striking subsection (c).

Sec. 6. Executive Order 13011 of July 16, 1996 (Federal Information Technology), is revoked.

Sec. 7. This order is not intended to, and does not, create any right or benefit, substantive or procedural, enforceable at law or in equity by any party against the United States, its departments, agencies, instrumentalities, or entities, its officers or employees, or any other person.

B

THE WHITE HOUSE,

May 12, 2006.

[FR Doc. 06-4652

Filed 5-15-06; 12:10 pm]

Billing code 3195-01-P